DEPARTMENT OF JUSTICE

Notice of Lodging of Proposed Consent Decree Under the Comprehensive Environmental Response, Compensation, and Liability Act

On May 24, 2018, the Department of Justice lodged a proposed consent decree with the United States District Court for the District of Utah in the lawsuit entitled United States v. Stevens, Civil Action No. 2:18-cv-00402-PMW.

The United States filed this lawsuit under the Comprehensive Environmental Response, Compensation, and Liability Act (CERCLA). The United States' complaint names J. Daniel Stevens, in his capacity as trustee of the Fifam Trust, as defendant. The complaint requests recovery of costs that the United States incurred responding to releases of hazardous substances at the North Salt Lake HazMat Site in Salt Lake City, Utah. Mr. Stevens, on behalf of the Fifam Trust, agrees to sell the Site property and to pay 75% of the net proceeds to the EPA Hazardous Substance Superfund in reimbursement of the United States' response costs. The United States will pay $302,950 to the EPA Hazardous Substance Superfund to resolve the alleged liability of the Department of Defense, the Defense Logistics Agency, and DLA Disposition Services. Under the consent decree, the United States agrees not to sue Mr. Stevens or the Fifam Trust under sections 106 or 107 of CERCLA regarding the Site, and Mr. Stevens and the Fifam Trust agree not to sue the United States with respect to the Site. Mr. Stevens, the Fifam Trust, the Department of Defense, the Defense Logistics Agency, and DLA Disposition Services will receive protection against contribution claims under CERCLA with respect to the Site.

The publication of this notice opens a period for public comment on the consent decree. Comments should be addressed to the Assistant Attorney General, Environment and Natural Resources Division, and should refer to United States v. Stevens, D.J. Ref. Nos. 90-11-3-11588, 90-11-6-20789. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $16.75 (25 cents per page reproduction cost) payable to the United States Treasury.

Robert Brook,
Assistant Section Chief, Environmental Enforcement Section, Environment and Natural Resources Division.

[FR Doc. 2018-11795 Filed 5-31-18; 8:45 am]

BILLING CODE 4410-15-P